DEPARTMENT OF AGRICULTURE

Forest Service

Information Collection: Role of Communities in Stewardship Contracting Projects

AGENCY: Forest Service, USDA.

ACTION: Notice; request for comment.

SUMMARY: In accordance with the Paperwork Reduction Act of 1995, the Forest Service is seeking comments from all interested individuals and organizations on the new information collection, role of local communities in development of agreement or contract plans under stewardship contracting.

DATES: Comments must be received in writing on or before February 27, 2006 to be assured of consideration. Comments received after that date will be considered to the extent practicable.

ADDRESSES: Comments concerning this notice should be addressed to Forest Management, Mail Stop 1103, Forest Service, USDA, P.O. Box 96090, Washington, DC 20090-6090.

Comments also may be submitted via facsimile to (202) 205-1045 or by e-mail to: mroessing@fs.fed.us.

The public may inspect comments received at 201 14th Street, Washington DC 20250, Room 3SW during normal business hours. Visitors are encouraged to call ahead to (202) 205-0847 to facilitate entry to the building.

FOR FURTHER INFORMATION CONTACT: Megan Roessing, Forest Management, 202-205-0847. Individuals who use telecommunication devices for the deaf (TDD) may call the Federal Relay Service (FRS) at 1-800-877-8339 twenty-four hours a day, every day of the year, including holidays.

SUPPLEMENTARY INFORMATION: Title: Role of communities in the development of stewardship contracting projects.

OMB Number: 0596-New.

Expiration Date of Approval: N/A.

Type of Request: New.

Abstract: Section 323 of Public Law 108-7 (16 U.S.C. 2104 Note) requires the Forest Service and Bureau of Land Management to report to Congress annually on the role of local communities in the development of agreement or contract plans through stewardship contracting. To meet that requirement the Forest Service plans to conduct surveys to gather the necessary information for use by both Forest Service and Bureau of Land Management. The survey will provide information regarding the nature of the local community involved in developing agreement or contract plans, the nature of roles played by the entities involved in developing agreement or contract plans, the benefits to the community and agency by being involved in planning and development of contract plans, and the usefulness of stewardship contracting in helping meet the needs of local communities.

The Pinchot Institute for Conservation and its sub-contractors will collect information through an annual phone survey. The survey will query federal employees, employees of for-profit and not-for-profit institutions, employees of state and local agencies, and individual citizens who have been involved in stewardship contracting projects about their role in the development of agreement or contract plans.

The information collected through the survey will be analyzed by the Pinchot Institute for Conservation and its sub-contractors and used to help develop the Forest Service and Bureau of Land Management report to Congress pursuant to Section 323 of Public Law 108-7. Without the information from this annual collection of data, the Forest Service and Bureau of Land Management will not be able to provide the required annual report to Congress on the role of communities in development of agreement or contract plans under stewardship contracting.

Estimate of Annual Burden: 0.75 hour.

Estimated Annual Number of Respondents: 350.

Estimated Annual Number of Responses per Respondent: One.

Estimated Total Annual Burden on Respondents: 263 hours.

Comment is Invited

Comment is invited on: (1) Whether this collection of information is necessary for the stated purposes and the proper performance of the functions of the agency, including whether the information will have practical or scientific utility; (2) the accuracy of the agency estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 14, 2005.
Frederick Norbury,
Associate Deputy Chief, NFS.

[FR Doc. E5-7827 Filed 12-23-05; 8:45 am]

BILLING CODE 3410-11-P